NUCLEAR REGULATORY COMMISSION

[Docket No. 040-8027; NRC-2010-0306]

Notice of License Amendment for the Sequoyah Fuels Corporation's Facility at Gore, OK

AGENCY: U.S. Nuclear Regulatory Commission.

ACTION: Notice of Action.

FOR FURTHER INFORMATION CONTACT: Ken Kalman, Project Manager, Decommissioning and Uranium Recovery Licensing Directorate, Division of Waste Management and Environmental Protection, Office of Federal and State Materials and Environmental Management Programs, U.S. Nuclear Regulatory Commission, Washington, DC 20555-0001; Telephone: (301) 415-6664; fax number (301) 415-5369; e-mail: kenneth.kalman@nrc.gov.

SUPPLEMENTARY INFORMATION:

I. Introduction

The U.S. Nuclear Regulatory Commission (NRC) is considering issuance of a license amendment to Sequoyah Fuels Corporation (SFC or licensee) for License No. SUB-1010. This action would authorize SFC to implement the groundwater corrective action plan (CAP) proposed for its site in Gore, Oklahoma. SFC's proposal for the CAP was first submitted to the NRC by letter dated June 16, 2003, and was supplemented by additional information submitted to the NRC by letters dated, December 16, 2005, July 2, 2009, and July 31, 2009. By letter dated August 18, 2010, SFC submitted a June 14, 2010, revision of the CAP that encompasses all supplements in a single document. NRC previously issued an Environmental Impact Statement (EIS) in support of this action in accordance with the requirements of 10 CFR part 51. See NUREG-1888, “Environmental Impact Statement for the Reclamation of the Sequoyah Fuels Corporation Site in Gore, Oklahoma,” issued May 2008.

II. Proposed Action

The purpose of this proposed CAP is to remediate existing groundwater contamination and to facilitate the eventual termination of License No. SUB-1010. This CAP is part of an overall site reclamation program described in SFC's Reclamation Plan (RP) dated January 2003. SFC's RP was reviewed and approved by NRC on April 20, 2009 (License Amendment 33). Whereas the RP primarily addresses the site decommissioning, disposal cell construction, and surface reclamation, the CAP addresses residual contamination in groundwater.

III. NRC Review

The NRC staff reviewed the CAP and supporting documents using Section 4.0 of NUREG-1620, “Standard Review Plan for the Review of a Reclamation Plan for Mill Tailings Sites Under Title II of the Uranium Mill Tailings Radiation Control Act of 1978,” Rev. 1, issued June 2003. The staff's review process included evaluating the site hydrogeology particularly with respect to the locations and types of groundwater restoration structures. Effectiveness of the proposed action was then evaluated by reviewing flow and transport models, as well as actual volume and concentration data from the current structures. Finally, the staff reviewed groundwater flow and contaminant transport models to evaluate the long-term groundwater contaminant concentrations and pollutant loads during and after corrective actions are completed.

SFC's CAP specifies the use of interceptor trenches and recovery wells placed in hydrologically strategic positions to intercept groundwater contamination remaining onsite. The CAP does not draw back any contamination that has passed the extraction points. Consequently, the CAP allows small pollutant loads (defined as pollutant concentration x volumetric flow) to enter the surface water system. However, NRC staff determined that the pollutant loads to surface water pose little threat to human health and safety and the environment. A Safety Evaluation Report (SER) dated September 20, 2010 (ML101170749) documents the NRC staff's technical review of the CAP to determine its compliance with 10 CFR Part 40, Appendix A.

SFC's request for the proposed amendment was previously noticed in the Federal Register (68 FR 51033; Aug. 25, 2003) with a notice of an opportunity to request a hearing. The State of Oklahoma and the Cherokee Nation submitted requests for hearing on September 29, 2003 and October 2, 2003, respectively. Both requests were subsequently denied on November 19, 2003. No other comments or requests for a hearing were received.

The Final EIS for the Reclamation of the Sequoyah Fuels Corporation Site in Gore, Oklahoma (NUREG-1888) was issued on May 20, 2008. The EIS documented the NRC staff's determination that all steps in the proposed reclamation could be accomplished in compliance with the NRC public and occupational dose limits, effluent release limits, and residual radioactive material limits. In addition, the EIS concluded that approval of the proposed action, in accordance with the commitments in NRC License SUB-1010 and the final RP, would not result in a significant adverse impact on the environment.

The findings, required by the Atomic Energy Act of 1954, as amended, necessary to support the proposed site reclamation activities will be documented in an SER that will be issued in connection with this license amendment.

IV. Further Information

Documents related to this action, including the application for amendment and supporting documentation, are available electronically at the NRC's Electronic Reading Room at http://www.nrc.gov/reading-rm/adams.html. From this site, you can access the NRC's Agency-wide Document Access and Management System (ADAMS), which provides text and image files of NRC's public documents. The ADAMS accession numbers for the documents related to this notice are:

Document | PDR* | Web | ADAMS | NRC Staff
SFC's letter to NRC dated June 16, 2003 | X | X | ML031710029 | X
SFC's letter to NRC dated December 16, 2005 | X | X | ML053560158 | X
SFC's letter to NRC dated July 2, 2009 | X | X | ML092040088 | X
SFC's letter to NRC dated July 31, 2009 | X | X | ML092240691 | X
SFC's letter to NRC dated August 18, 2010 | X | X | ML102380151 | X
NUREG-1888, “Environmental Impact Statement for the Reclamation of the Sequoyah Fuels Corporation Site in Gore, Oklahoma,” issued May 2008 | X | X | ML081300103 | X
Notice of Receipt of License Amendment Request from the Sequoyah Fuels Corp. to Approve a Groundwater Monitoring Plan for Its Gore, Oklahoma Facility, and Opportunity to Request a Hearing August 25, 2003 (68 FR 51033) | X | X | ML032310041 | X
Federal Register Notice for this license amendment | X | X | ML101170703 | X
* PDR—Public Document Room

If you do not have access to ADAMS or if there are problems in accessing the documents located in ADAMS, contact the NRC Public Document Room Reference staff at 1-800-397-4209, 301-415-4737, or by e-mail to pdr.resource@nrc.gov.

Any questions should be referred to Kenneth Kalman, Division of Waste Management and Environmental Protection, U.S. Nuclear Regulatory Commission, Washington, DC 20555, Mailstop T-7E18, telephone (301) 415-6664, fax (301) 415-5369.

Dated at Rockville, Maryland, this 20th day of September, 2010.
For the Nuclear Regulatory Commission.
Paul Michalak,
Acting Deputy Director, Decommissioning and Uranium Recovery Licensing Directorate, Division of Waste Management and Environmental Protection, Office of Federal and State Materials and Environmental Management Programs.

[FR Doc. 2010-24268 Filed 9-27-10; 8:45 am]

BILLING CODE 7590-01-P